DEPARTMENT OF COMMERCE

National Institute of Standards and Technology

[Docket Number 100311135-0182-02]

FY 2010 NIST Center for Neutron Research (NCNR) Comprehensive Grants Program Extension of Due Date for Proposals

AGENCY: National Institute of Standards and Technology (NIST), United States Department of Commerce.

ACTION: Notice.

SUMMARY: NIST publishes this notice to extend the deadline for proposal submission for its Fiscal Year 2010 NCNR Comprehensive Grants Program competition to 5 p.m. EDT, Thursday, May 13, 2010.

DATES: Applications must be received no later than 5 p.m. EDT, Thursday, May 13, 2010.

ADDRESSES: Paper copies of full proposals must be submitted to the address below. Paper submissions require an original and two copies: Tanya Burke, NIST Center for Neutron Research; National Institute of Standards and Technology; 100 Bureau Drive, Stop 6100; Gaithersburg, Maryland 20899-6100. Electronic submissions of full proposals must be submitted to: http://www.grants.gov.

FOR FURTHER INFORMATION CONTACT: Tanya Burke, NIST Center for Neutron Research, National Institute of Standards and Technology, 100 Bureau Drive, Stop 6100, Gaithersburg, Maryland 20899-6100. Tel (301) 975-4711, E-Mail: tanya.burke@nist.gov.

SUPPLEMENTARY INFORMATION: On April 13, 2010, the NIST Center for Neutron Research (NCNR) announced that it was soliciting proposals for financial assistance for significant research involving Neutron Research and Spectroscopy specifically aimed at assisting visiting researchers at the NIST Center for Neutron Research, developing new instrumentation for Neutron Research, conducting collaborative research with NIST scientists, and to conduct other outreach and educational activities that advance the use of neutrons by U.S. university and industrial scientists (75 FR 18784). The due date for submission of all proposals was 5 p.m. EDT on Friday, May 7, 2010. NIST is extending the deadline to give applicants more time to prepare and submit proposals. The new deadline is 5 p.m. EDT, May 13, 2010.

All NCNR Comprehensive Grants Program competition requirements and information announced in the April 13, 2010, Federal Register apply to proposals submitted during the extended time period.

Executive Order 12372 (Intergovernmental Review of Federal Programs). Proposals under this program are not subject to Executive Order 12372.

Executive Order 13132 (Federalism). This notice does not contain policies with Federalism implications as defined in Executive Order 13132.

Executive Order 12866 (Regulatory Planning and Review). This notice is not a significant regulatory action under sections 3(f)(3) and 3(f)(4) of Executive Order 12866, as it does not materially alter the budgetary impact of a grant program and does not raise novel policy issues. This notice is not an “economically significant” regulatory action under Section 3(f)(1) of the Executive Order, as it does not have an effect on the economy of $100 million or more in any one year, and it does not have a material adverse effect on the economy, a sector of the economy, productivity, competition, jobs, the environment, public health or safety, or State, local, or tribal governments or communities.

Administrative Procedure Act and Regulatory Flexibility Act. Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. 601 et seq.) are inapplicable. Therefore, a regulatory flexibility analysis is not required and has not been prepared.

Dated: April 20, 2010.
Marc G. Stanley,
Acting Deputy Director.

[FR Doc. 2010-9525 Filed 4-22-10; 8:45 am]

BILLING CODE 3510-13-P